DEPARTMENT OF COMMERCE

National Oceanic and Atmospheric Administration (NOAA)

Notice of Availability of a Draft Programmatic Environmental; Assessment for the National Oceanic and Atmospheric, Administration National Data Buoy Center

AGENCY: National Weather Service (NWS), National Oceanic and Atmospheric Administration (NOAA), Department of Commerce (DOC).

ACTION: Request for public comments.

DATES: The Draft PEA is available for public review and comment for 30 days after posting. It can be accessed at http://www.ndbc.noaa.gov/pea/ndbc_draft_pea.pdf.

ADDRESSES: If you wish to comment on the Draft PEA, please send comments via email to Joe Swaykos, NDBC Chief Scientist, at joe.swaykos@noaa.gov.

FOR FURTHER INFORMATION CONTACT: Joe Swaykos, National Data Buoy Center, Bldg 3205, Stennis Space Center, MS 39529; phone (228) 688-4766; fax (228)688-1364; email joe.swaykos@noaa.gov.

SUPPLEMENTARY INFORMATION: The National Oceanic and Atmospheric Administration (NOAA) National Data Buoy Center (NDBC), a part of the National Weather Service (NWS), designs, develops, operates, and maintains a network of moored buoys and coastal stations throughout the world's oceans, seas, and lakes for the purpose of civil earth marine observations. NDBC has prepared a Programmatic Environmental Assessment (PEA) to analyze the continued operational activities of its network of moored buoys and coastal stations.

NDBC provides high quality ocean and coastal observations for public safety use in direct support of short range and extended range NWS forecasts, warnings, and watches. NDBC provides essential real-time oceanographic and meteorological observation data to stakeholders in key U.S. Economic Sectors, such as, Trade and Retail (i.e., maritime transportation) and Commercial sectors (i.e., energy, fishing, and agriculture). This valuable data provides users with up to the minute decision-making observations needed for safe commercial and marine recreation activities.

NDBC operates a network composed of four formal NOAA Observing Systems of Record: (1) Coastal Weather Buoys (CWB); (2) the land-based Coastal-Marine Automated Network (C-MAN); (3) Tropical Atmosphere Ocean Array (TAO) and (4) Deep-ocean Assessment and Reporting of Tsunamis (DART). Currently, NDBC's network consists of 200 buoys and 46 C-MAN stations that transmit observations and data (i.e., wind speed and direction, barometric pressure, air temperature; sea surface temperatures, wave height and period, water currents, and conductivity) via satellite that are processed and quality-controlled, and then disseminated for public release in near real-time.

In-situ real-time oceanographic and meteorological observations are critical to a wide variety of users such as federal, state, academic, and private industry stakeholders. These observations add value to a diverse spectrum of civil use applications including severe and routine weather forecasting; improved coastal ocean circulation models; commercial and recreational marine transportation and fishing; and environmental monitoring and research. The societal benefits of ocean observations are interconnected at local, regional, national, and international scales. The National Plan for Civil Earth Observations and the National Strategy for Sustained Network of Coastal Moorings identify the Societal Benefit Areas (SBAs) supported by NDBC ocean observations. These SBAs include scientific research, economic activities, and environmental and social domains. Many involve critical government functions, such as the protection of life and property (NSTC 2014). The nine SBAs that are applicable to NDBC are: Climate; Coastal and Marine Hazards and Disasters; Ocean and Coastal Energy and Mineral Resources; Human Health; Ocean and Coastal Resources and Ecosystems; Marine Transportation; Water Resources; Coastal and Marine Weather; and Reference Measurements.

Ocean observations are an indispensable component to measure and monitor our progress towards addressing societal challenges. Among the diverse sources of ocean observations, data buoys provide unique and invaluable information to support critical government functions, such as the protection of life and property. NDBC data are accessed on a daily basis, by millions of national and international stakeholders and assimilated into a myriad products and services.

Dated: August 22, 2017.
David Holst,
Acting Chief Financial Officer/CAO, Office of Oceanic and Atmospheric Research, National Oceanic and Atmospheric Administration.

[FR Doc. 2017-18415 Filed 8-29-17; 8:45 am]

BILLING CODE 3510-KD-P